DEPARTMENT OF HEALTH AND HUMAN SERVICES

National Institutes of Health

Center for Scientific Review; Amended Notice of Meeting

Notice is hereby given of a change in the meeting of the Center for Scientific Review Special Emphasis Panel, February 25, 2005, 8:30 a.m. to February 25, 2005, 5 p.m., George Washington University Inn, 824 New Hampshire Ave,, NW., Washington, DC 20037 which was published in the Federal Register on January 31, 2005, 70 FR 4880.

The meeting will be held at One Washington Circle Hotel, One Washington Circle, NW., Washington, DC 20067.

The meeting times and date remain the same. The meeting is closed to the public.

Dated: February 11, 2005.
LaVerne Y. Stringfield,
Director, Office of Federal Advisory Committee Policy.

[FR Doc. 05-3152 Filed 2-17-05; 8:45 am]

BILLING CODE 4140-01-M